RECOVERY ACCOUNTABILITY AND TRANSPARENCY BOARD

Privacy Act of 1974; System of Records

AGENCY: Recovery Accountability and Transparency Board

ACTION: Notice of new Privacy Act systems of records.

SUMMARY: The Recovery Accountability and Transparency Board (Board or RATB) proposes two new systems of records subject to the Privacy Act of 1974, as amended (Privacy Act or the Act), entitled “RATB Investigative Files” and “RATB Fraud Hotline Program Files.”

ADDRESSES: Comments may be submitted:

By Mail or Hand Delivery: Jennifer Dure, Office of General Counsel, Recovery Accountability and Transparency Board, 1717 Pennsylvania Avenue, NW., Suite 700, Washington, DC 20006;

By Fax: (202) 254-7970; or

By E-mail to the Board: comments@ratb.gov.

All comments on the proposed new systems of records should be clearly identified as such.

FOR FURTHER INFORMATION CONTACT: Jennifer Dure, General Counsel, Recovery Accountability and Transparency Board, 1717 Pennsylvania Avenue, NW., Suite 700, Washington, DC 20006, (202) 254-7900.

SUPPLEMENTARY INFORMATION: Title 5 U.S.C. 552a(e)(4) and (11) provide that the public be given a 30-day period in which to comment on any new routine use of a system of records. The Office of Management and Budget (OMB), which has oversight responsibilities under the Act, requires a 40-day period in which to conclude its review of the new systems. Therefore, please submit any comments by December 30, 2009.

In accordance with 5 U.S.C. 552a(r), the Board has provided a report to OMB and the Congress on the proposed systems of records.

Recovery Accountability and Transparency Board

Table of Contents

RATB—11—RATB Investigative Files.

RATB—12—RATB Fraud Hotline Program Files.

RATB—11

SYSTEM NAME:

RATB Investigative Files.

SECURITY CLASSIFICATION:

The majority of the information in the system is Sensitive but Unclassified.

SYSTEM LOCATION:

Recovery Accountability and Transparency Board, located at 1717 Pennsylvania Avenue, NW., Suite 700, Washington, DC 20006.

CATEGORIES OF INDIVIDUALS COVERED BY THE SYSTEM:

In connection with its investigative duties, the RATB maintains records on the following categories of individuals:

(a) Individuals or entities who are or have been the subject of investigations indentified by the RATB;

(b) Individuals who are or have been witnesses, complainants, or informants in investigations identified by the RATB; and

(c) Individuals or entities that have been identified as potential subjects or parties to an RATB investigation.

CATEGORIES OF RECORDS IN THE SYSTEM:

Information relating to investigation, including:

(a) Letters, memoranda, and other documents describing complaints or alleged criminal, civil, or administrative misconduct.

(b) Investigative files which include general intelligence and relevant data, leads for Inspectors General (or other applicable oversight and law enforcement entities), reports of investigations and related exhibits, statements, affidavits, and records obtained during an investigation.

AUTHORITY FOR MAINTENANCE OF SYSTEM:

The RATB's enabling legislation, the American Recovery and Reinvestment Act of 2009 (Pub. L. 111-5) (Recovery Act), sections 1521 et seq.

PURPOSE(S):

The purpose of this system of records is to enable the RATB to carry out its responsibilities under its enabling legislation, the Recovery Act. The RATB is statutorily directed to coordinate and conduct oversight of covered funds to prevent fraud, waste, and abuse.

ROUTINE USES OF RECORDS MAINTAINED IN THE SYSTEM, INCLUDING CATEGORIES OF USERS AND THE PURPOSES OF SUCH USES:

In addition to those disclosures generally permitted under 5 U.S.C. 552a(b) of the Privacy Act, these records or information contained therein may specifically be disclosed outside the RATB as a routine use pursuant to 5 U.S.C. 552a(b)(3) as follows:

A. To the appropriate federal, state, local, or tribal agency responsible for investigating, prosecuting, enforcing, or implementing a statute, rule, regulation, or order, if the information is relevant to a violation or potential violation of civil or criminal law or regulation within the jurisdiction of the receiving entity.

B. To any individual or entity when necessary to elicit information that will assist an RATB review or audit.

C. To appropriate officials and employees of a federal agency or entity which requires information relevant to a decision concerning the hiring, appointment, or retention of an individual; the issuance, renewal, suspension, or revocation of a security clearance; the execution of a security or suitability investigation; the letting of a contract; or the issuance or revocation of a grant or other benefit.

D. To a Member of Congress or staff acting upon the Member's behalf when the Member or staff requests the information on behalf of, and at the request of, the individual who is the subject of the record.

E. Information may be disclosed to the Department of Justice (DOJ), or in a proceeding before a court, adjudicative body, or other administrative body before which the RATB is authorized to appear, when:

1. The RATB, or any component thereof; or

2. Any employee of the RATB in his or her official capacity; or

3. Any employee of the RATB in his or her individual capacity where the DOJ or the RATB has agreed to represent the employee; or

4. The United States, if the RATB determines that litigation is likely to affect the RATB or any of its components, is a party to litigation or has an interest in such litigation, and the use of such records by the DOJ or the RATB is deemed by the RATB to be relevant and necessary to the litigation, provided, however, that in each case it has been determined that the disclosure is compatible with the purpose for which the records were collected.

F. Information may be disclosed to the National Archives and Records Administration in records management inspections.

G. Information may be disclosed to contractors, grantees, consultants, or volunteers performing or working on a contract, service, grant, cooperative agreement, job, or other activity for the RATB and who have a need to have access to the information in the performance of their duties or activities for the RATB.

DISCLOSURE TO CONSUMER REPORTING AGENCIES:

Not applicable.

POLICIES AND PRACTICES FOR STORING, RETRIEVING, ACCESSING, RETAINING, AND DISPOSING OF RECORDS IN THE SYSTEM: STORAGE:

Information in this system is stored electronically in office automation equipment.

RETRIEVABILITY:

Each lead or investigation is assigned a file number and all records relating to a particular investigation are filed and retrieved by that number. Records may also be retrievable by the names of subjects.

SAFEGUARDS:

Computer records are maintained in a secure, password-protected computer system. Paper records are maintained in lockable file cabinets. All records are maintained in secure, access-controlled areas.

RETENTION AND DISPOSAL:

Records will be retained and disposed of in accordance with RATB Records Control Schedules approved by the National Archives and Records Administration.

SYSTEM MANAGER AND ADDRESS:

Assistant Director, Investigations, Recovery Accountability and Transparency Board, 1717 Pennsylvania Avenue, NW., Suite 700, Washington, DC 20006.

NOTIFICATION PROCEDURE:

Address inquiries to the System Manager listed above.

RECORD ACCESS PROCEDURES:

The major part of this system is exempt from this requirement pursuant to 5 U.S.C. 552a(j)(2) and (k)(2). To the extent that this system is not subject to exemption, it is subject to access. A determination as to exemption shall be made at the time a request for access is received. A request for access to records contained in this system shall be made in writing, with the envelope and the letter clearly marked “Privacy Access Request.” Include in the request the full name of the individual involved, his or her current address, date and place of birth, notarized signature (or submitted with date and signature under penalty of perjury), and any other identifying number or information which may be of assistance in locating the record. The requester shall also provide a return address for transmitting the information. Access requests shall be directed to the System Manager listed above.

CONTESTING RECORDS PROCEDURES:

Requesters shall direct their request to the System Manager listed above, stating clearly and concisely what information is being contested, the reason for contesting it, and the proposed amendment to the information.

RECORD SOURCE CATEGORIES:

The subjects of investigations; individuals with whom the subjects of investigations are associated; federal, state, local, and foreign law enforcement and non-law enforcement agencies; private citizens; witnesses; informants; and public source materials.

RATB—12

SYSTEM NAME:

RATB Fraud Hotline Program Files

SECURITY CLASSIFICATION:

The majority of the information in the system is Sensitive but Unclassified.

SYSTEM LOCATION:

Recovery Accountability and Transparency Board, located at 1717 Pennsylvania Avenue, NW., Suite 700, Washington, DC 20006.

CATEGORIES OF INDIVIDUALS COVERED BY THE SYSTEM:

Persons who report information to the RATB concerning the possible existence of activities constituting a violation of law, rules, or regulations, fraud, abuse, mismanagement, or gross waste of funds, and the subject of the complaints.

CATEGORIES OF RECORDS IN THE SYSTEM:

Letters, memoranda, other communications and documents describing complaints of alleged criminal, civil, or administrative misconduct relating to covered funds.

AUTHORITY FOR MAINTENANCE OF SYSTEM:

The RATB's enabling legislation, the American Recovery and Reinvestment Act of 2009 (Pub. L. 111-5) (Recovery Act), sections 1521 et seq.

PURPOSE(S):

The purpose of this system of records is to enable the RATB to carry out its responsibilities under its enabling legislation, the Recovery Act. The RATB is statutorily directed to coordinate and conduct oversight of covered funds to prevent fraud, waste, and abuse.

ROUTINE USES OF RECORDS MAINTAINED IN THE SYSTEM, INCLUDING CATEGORIES OF USERS AND THE PURPOSES OF SUCH USES:

In addition to those disclosures generally permitted under 5 U.S.C. 552a(b) of the Privacy Act, these records or information contained therein may specifically be disclosed outside the RATB as a routine use pursuant to 5 U.S.C. 552a(b)(3) as follows:

A. To the appropriate federal, state, local, or tribal agency responsible for investigating, prosecuting, enforcing, or implementing a statute, rule, regulation, or order, if the information is relevant to a violation or potential violation of civil or criminal law or regulation within the jurisdiction of the receiving entity.

B. To any individual or entity when necessary to elicit information that will assist an RATB review or audit.

C. To appropriate officials and employees of a federal agency or entity which requires information relevant to a decision concerning the hiring, appointment, or retention of an individual; the issuance, renewal, suspension, or revocation of a security clearance; the execution of a security or suitability investigation; the letting of a contract; or the issuance or revocation of a grant or other benefit.

D. To a Member of Congress or staff acting upon the Member's behalf when the Member or staff requests the information on behalf of, and at the request of, the individual who is the subject of the record.

E. Information may be disclosed to the Department of Justice (DOJ), or in a proceeding before a court, adjudicative body, or other administrative body before which the RATB is authorized to appear, when:

1. The RATB, or any component thereof; or

2. Any employee of the RATB in his or her official capacity; or

3. Any employee of the RATB in his or her individual capacity where the DOJ or the RATB has agreed to represent the employee; or

4. The United States, if the RATB determines that litigation is likely to affect the RATB or any of its components, is a party to litigation or has an interest in such litigation, and the use of such records by the DOJ or the RATB is deemed by the RATB to be relevant and necessary to the litigation, provided, however, that in each case it has been determined that the disclosure is compatible with the purpose for which the records were collected.

F. Information may be disclosed to the National Archives and Records Administration in records management inspections.

G. Information may be disclosed to contractors, grantees, consultants, or volunteers performing or working on a contract, service, grant, cooperative agreement, job, or other activity for the RATB and who have a need to have access to the information in the performance of their duties or activities for the RATB.

POLICIES AND PRACTICES FOR STORING, RETRIEVING, ACCESSING, RETAINING, AND DISPOSING OF RECORDS IN THE SYSTEM:

STORAGE:

Hard copy files and a computer database.

RETRIEVABILITY:

Records are retrievable by case number or subject name.

SAFEGUARDS:

Computer records are maintained in a secure, password protected computer system. Paper records are maintained in lockable file cabinets. All records are maintained in secure, access-controlled areas or buildings.

RETENTION AND DISPOSAL:

Records will be retained and disposed of in accordance with RATB Records Control Schedules approved by the National Archives and Records Administration.

SYSTEM MANAGER AND ADDRESS:

Assistant Director, Investigations, Recovery Accountability and Transparency Board, 1717 Pennsylvania Avenue, NW., Suite 700, Washington, DC 20006.

NOTIFICATION PROCEDURE:

Address inquiries to the System Manager listed above.

RECORD ACCESS PROCEDURES:

The major part of this system is exempt from this requirement pursuant to 5 U.S.C. 552a(k)(2) and (k)(5). To the extent that this system is not subject to exemption, it is subject to access. A determination as to exemption shall be made at the time a request for access is received. A request for access to records contained in this system shall be made in writing, with the envelope and the letter clearly marked “Privacy Access Request.” Include in the request the full name of the individual involved, his or her current address, date and place of birth, notarized signature (or submitted with date and signature under penalty of perjury), and any other identifying number or information which may be of assistance in locating the record. The requester shall also provide a return address for transmitting the information. Access requests shall be directed to the System Manager listed above.

CONTESTING RECORDS PROCEDURES:

Requesters shall direct their request to the System Manager listed above, stating clearly and concisely what information is being contested, the reason for contesting it, and the proposed amendment to the information.

RECORD SOURCE CATEGORIES:

Complainants who are employees of federal, state, and local agencies, and private citizens. Records in the system come from complainants through the telephone, mail, electronic mail, facsimile, and the web site http://www.recovery.gov.

Ivan J. Flores,
Paralegal Specialist, Recovery Accountability and Transparency Board.

[FR Doc. E9-27899 Filed 11-19-09; 8:45 am]

BILLING CODE 6820-GA-P